DEPARTMENT OF HEALTH AND HUMAN SERVICES

Agency for Toxic Substances and Disease Registry

[ATSDR-189]

Public Health Assessments Completed

AGENCY: Agency for Toxic Substances and Disease Registry (ATSDR), Department of Health and Human Services (HHS).

ACTION: Notice.

SUMMARY: This notice announces those sites for which ATSDR has completed public health assessments during the period from July 2002 through September 2002. This list includes sites that are on or proposed for inclusion on the National Priorities List (NPL), and includes sites for which assessments were prepared in response to requests from the public.

FOR FURTHER INFORMATION CONTACT: Robert C. Williams, P.E., DEE, Assistant Surgeon General, Director, Division of Health Assessment and Consultation, Agency for Toxic Substances and Disease Registry, 1600 Clifton Road, NE., Mailstop E-32, Atlanta, Georgia 30333, telephone (404) 498-0007.

SUPPLEMENTARY INFORMATION: The most recent list of completed public health assessments was published in the Federal Register on July 25, 2002 [67 FR 48660]. This announcement is the responsibility of ATSDR under the regulation, Public Health Assessments and Health Effects Studies of Hazardous Substances Releases and Facilities [42 CFR Part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments and addenda are available for public inspection at the Division of Health Assessment and Consultation, Agency for Toxic Substances and Disease Registry, Building 1825, Century Blvd, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (703) 605-6000. NTIS charges for copies of public health assessments and addenda. The NTIS order numbers are listed in parentheses following the site names.

Public Health Assessments Completed or Issued

Between July 1, 2002 and September 30, 2002, public health assessments were issued for the sites listed below:

NPL Sites

Alaska

Naval Air Facility, ADAK (a/k/a ADAK Naval Air Station) (PB2003-100146)

Connecticut

Broad Brook Mill (a/k/a Millbrook Condominium Site) (PB2002-106763)

Florida

Nocatee Hull Creosote (PB2002-107943)

Georgia

Tri-State Steel Company Incorporated (PB2002-105396)

Idaho

Poles, Incorporation Wood Treatment Facility (PB2003-100506)

Illinois

Sand Park (a/k/a Browning-Ferris Industry, Incorporated) (PB2002-105385)

Kansas

Sunflower Army Ammunition Plant (PB2002-104687)

Kentucky

Paducah Gaseous Diffusion Plant (USDOE) (PB2002-107319)

Louisiana

Mallard Bay Landing Bulk Plant (PB2002-108311)

Maine

Central Maine Disposal Landfill (a/k/a Central Maine Disposal Corporation) (PB2002-107944)

Massachusetts

Atlas Tack Site (a/k/a Atlas Tack Corporation) (PB2002-101491)

Minnesota

Joslyn Manufacturing and Supply Company (PB2003-100145)

New Jersey

Middlesex Sampling Plant (USDOE) (PB2002-107244)

Puchack Well Field (PB2002-106764)

New York

Garden City Park Industrial Area (GCPIA) (a/k/a Fulton Avenue) (PB2002-108031)

North Carolina

Barber Orchard (PB2002-106074)

Carolina Solite Corporation (a/k/a Carolina Solite Corporation/Aquadale) (PB2002-100417)

Davis Park Road TCE (PB2002-106373)

Diamond Head Oil Refinery (PB2003-100153)

Pennsylvania

Naval Support Activity, Mechanicsburg (a/k/a Navy Ships Parts Control Center and Naval Inventory Control Point) (PB2002-106762)

Willow Grove Naval Air and Air Reserve Station (a/k/a Naval Air Station Joint Reserve Base and Air Force Reserve Station) (PB2002-107263)

Texas

Palmer Barge Line (PB2002-107243)

Non NPL Petitioned Sites

None

Dated: November 27, 2002.
Georgi Jones,
Director, Office of Policy and External Affairs, Agency for Toxic Substances and Disease Registry.

[FR Doc. 02-30688 Filed 12-3-02; 8:45 am]

BILLING CODE 4163-70-P